DEPARTMENT OF STATE

[Public Notice 10524]

60-Day Notice of Proposed Information Collection: Department of State Acquisition Regulation (DOSAR)

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to November 19, 2018.

ADDRESSES: You may submit comments by any of the following methods:

• Web: Persons with access to the internet may comment on this notice by going to www.Regulations.gov. You can search for the document by entering “Docket Number: DOS-2018-0038” in the Search field. Then click the “Comment Now” button and complete the comment form.

• Email: kosarcm@state.gov.

• Regular Mail: Send written comments to: Ms. Colleen Kosar, Policy Division, Office of the Procurement Executive, A/OPE, 2201 C Street NW, Suite 1060, State Annex Number 15, Washington, DC 20520.

You must include the information collection title and the OMB control number in any correspondence.

FOR FURTHER INFORMATION CONTACT: Direct requests for additional information regarding the collection listed in this notice, including requests for copies of the proposed collection instrument and supporting documents, to Ms. Colleen Kosar, Policy Division, Office of the Procurement Executive, A/OPE, 2201 C Street NW, Suite 1060, State Annex Number 15, Washington, DC 20520, who may be reached on 703-516-1685, or at kosarcm@state.gov.

SUPPLEMENTARY INFORMATION:

• Title of Information Collection: Department of State Acquisition Regulation (DOSAR).

• OMB Control Number: 1405-0050.

• Type of Request: Revision of a Currently Approved Collection.

• Originating Office: Office of the Procurement Executive, A/OPE.

• Form Number: No form.

• Respondents: Entities seeking to do business with, or contractors of, the Department of State.

• Estimated Number of Respondents: 261.

• Estimated Number of Responses: 831.

• Average Time per Response: Approximately 4 hours.

• Total Estimated Burden Time: 3,370 annual hours.

• Frequency: On occasion.

• Obligation to Respond: Required to obtain a benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

This information collection covers pre-award and post-award requirements of the DOSAR. During the pre-award phase, information is collected to determine which proposals offer the best value to the U.S. Government. Post-award actions include monitoring the contractor's performance; issuing modifications to the contract; dealing with unsatisfactory performance; and closing out the contract upon its completion. This program collects information pursuant to the Foreign Service Buildings Act of 1926, as amended (22 U.S.C. 302), the Omnibus Diplomatic Security and Antiterrorism Act (22 U.S.C. 4852), and the Foreign Relations Authorization Act, Fiscal Years 1990 and 1991 (22 U.S.C. 4864).

Methodology

Information is collected from prospective offerors to evaluate their proposals. The responses provided by the public are part of the offeror's proposals in response to Department solicitations. This information may be submitted electronically (through fax or email), or may require a paper submission, depending upon complexity. After contract award, contractors are required to submit information, on an as-needed basis, and relate to the occurrence of specific circumstances.

Cathy J. Read,
Director, Office of Procurement Executive, Department of State.

[FR Doc. 2018-20377 Filed 9-18-18; 8:45 am]

BILLING CODE 4710-24-P